DEPARTMENT OF HOUSING AND URBAN DEVELOPMENT

[Docket No. FR-5500-N-13]

Notice of Funding Availability (NOFA) for HUD's Fiscal Year 2011; Housing Opportunities for Persons With AIDA (HOPWA)

AGENCY: Office of the Chief of the Human Capital Officer, HUD.

ACTION: Notice.

SUMMARY: HUD announces the availability on its Web site of the applicant information, submission deadlines, funding criteria, and other requirements for HUD's FY2011 Housing for Persons with AIDS (HOPWA) Program NOFA. Specifically, this NOFA announces the availability of approximately $9.1 million made available under the Department of Defense and Full-Year Continuing Appropriations Act, 2011, Public Law 112-10, approved April 15, 2011 for the Housing for Persons with AIDS (HOPWA) Program.

The purpose of the HOPWA program is to advance HUD's implementation of the National HIV/AIDS Strategy (NHAS). HOPWA NOFA also addresses the Department's Fiscal Year 2010-2015 Strategic Plan and the Opening Doors Federal Strategic Plan To Prevent and End Homelessness. These actions address goals to: Prevent and end homelessness; increase the supply of affordable housing; and increase the coordination of mainstream housing resources and other health and human services.

The HOPWA NOFA announces funds available for projects that address both: (1) Direct housing assistance and service delivery to low income persons and families living with HIV/AIDS, including homeless individuals and families; and (2) comprehensive planning and coordination of local resources in meeting housing and service needs of the population. As a result of project efforts, communities will be assisted in the development and use of an Integrated HIV/AIDS Housing Plan (IHHP) to be issued at the end of the third year of operation. The IHHP is an administrative function and should demonstrate local system changes in the delivery of housing and services. Grantees are expected to provide housing assistance to eligible persons in their communities while concurrently examining and comprehensively integrating local services for coordinating and streamlining where possible the delivery of those services in your community.

The notice providing information regarding the application process, funding criteria and eligibility requirements, application and instructions can be found using the Department of Housing and Urban Development agency link on the Grants.gov/Find Web site at http://www.grants.gov/search/agency.do. A link to the funding opportunity is also available on the HUD Web site at http://portal.hud.gov/hudportal/HUD?src=/program_offices/administration/grants/fundsavail.

The link from the funds available page will take you to the agency link on Grants.gov. The Catalogue of Federal Domestic Assistance (CFDA) number for this program is 14.241. Applications must be submitted electronically through Grants.gov.

FOR FURTHER INFORMATION CONTACT: Questions regarding specific program requirements should be directed to the agency contact identified in the program NOFA. Program staff will not be available to provide guidance on how to prepare the application. Questions regarding the 2011 General Section should be directed to the Office of Grants Management and Oversight at (202) 708-0667 or the NOFA Information Center at 800-HUD-8929 (toll free).

Persons with hearing or speech impairments may access these numbers via TTY by calling the Federal Information Relay Service at 800-877-8339.

Dated: June 9, 2011.
Barbara S. Dorf,
Director, Office of Departmental Grants Management and Oversight, Office of the Chief of the Human Capital Officer.

[FR Doc. 2011-14910 Filed 6-15-11; 8:45 am]

BILLING CODE 4210-67-P